DEPARTMENT OF JUSTICE

Notice of Lodging of Proposed Consent Decree Under the Clean Water Act

Notice is hereby given that on October 7, 2011, a proposed Consent Decree in United States, et al. v. the Ryland Group, Inc., Civil Action No. 3:11-cv-00499, was lodged with the United States District Court for the Western District of North Carolina.

The proposed Consent Decree in this Clean Water Act enforcement action against the Ryland Group, Inc. (“Ryland”) resolves allegations of stormwater violations, asserted in a complaint filed concurrently with the Consent Decree. The proposed Consent Decree also resolves related state law claims brought by co-plaintiffs, the State of Colorado, the State of Florida Department of Environmental Protection, the State of Illinois, the State of Indiana, the State of Maryland, the State of Nevada, and the Commonwealth of Virginia. In addition to the payment of civil penalties of $625,000.00, the settlement requires Ryland to institute a company-wide management, reporting and training program that goes beyond current regulatory requirements, to improve compliance with stormwater requirements.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States, et al. v. the Ryland Group, Inc., D.J. Ref. 90-5-1-1-08421.

During the public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy from the Consent Decree Library by mail, please enclose a check in the amount of $43.75 (25 cents per page reproduction cost) payable to the U.S. Treasury or, if requesting by e-mail or fax, forward a check in that amount to the Consent Decree Library at the address given above. In requesting a copy of the Consent Decree exclusive of appendices, please enclose a check in the amount of $18.00 (25 cents per page reproduction cost) payable to the U.S. Treasury.

Karen Dworkin,
Assistant Chief, Environmental Enforcement Section, Environment and Natural Resources Division.

[FR Doc. 2011-26807 Filed 10-17-11; 8:45 am]

BILLING CODE 4410-15-P